DEPARTMENT OF HEALTH AND HUMAN SERVICES

Centers for Disease Control and Prevention

[30Day-13-0923]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Evaluation of the National Tobacco Prevention and Control Public Education Campaign (OMB No. 0920-0923, exp. 2/28/2013)—Revision—National Center for Chronic Disease Prevention and Health Promotion (NCCDPHP), Centers for Disease Control and Prevention (CDC).

Background and Brief Description

The Centers for Disease Control and Prevention (CDC) requests a Revision of the current OMB approval for Evaluation of the National Tobacco Prevention and Control Public Education Campaign (The Campaign) (OMB no. 0920-0923, exp. 2/28/2012). In 2012, CDC conducted web-based surveys of smokers and non-smokers in the U.S. for purposes of evaluating phase 1 of the CDC's National Tobacco Prevention and Control Public Education Campaign (The Campaign). This information collection consisted of an initial baseline survey (Wave 1) before the launch of The Campaign and a longitudinal follow-up survey (Wave 2) of those participants approximately three months later after the conclusion of The Campaign. Data from this information collection has been used by CDC to examine the association between smokers' and nonsmokers' exposure to The Campaign and changes in outcome variables of interest.

CDC has recently announced plans to launch a second phase of The Campaign (Phase 2), using the same campaign name (“Tips from Former Smokers”), similar advertisement styles, similar message themes and strategies, and in some cases the same ad cast members. CDC therefore plans to continue evaluation of The Campaign with a new, third wave of data collection. Wave 3 will consist of web-based follow-up surveys of smokers and nonsmokers that will facilitate pre-post analysis of the cumulative Phase 1 and Phase 2 campaigns. This pre-post design is similar to the currently-approved information collection that examined pre-post changes in relevant outcomes for the Phase 1 campaign only.

The timeframe for the Wave 3 data collection is related to the anticipated launch and duration of the Phase 2 campaign. The Phase 2 Campaign is expected to launch in early winter/spring 2013 and will air for approximately four months. Therefore, our proposed Wave 3 data collection will occur approximately four months after the Phase 2 Campaign launch to ensure accurate measurement of Campaign awareness after all media have been delivered.

Information will be collected about adult smokers' awareness of and exposure to campaign advertisements, knowledge, attitudes, and beliefs related to smoking and secondhand smoke. In addition, the survey will measure behaviors related to smoking cessation (among the smokers in the sample) and behaviors related to non-smokers' encouragement of smokers to quit smoking. Information will also be collected on demographic variables including age, sex, race, education, income, primary language, and marital status.

Data from this survey will be used to estimate the extent to which smokers and non-smokers in the U.S. were exposed to cumulative Phase 1 and Phase 2 Campaigns and to examine the statistical relationships between adults' exposure to Phase 1 and Phase 2 Campaigns and changes in outcome variables of interest which will include knowledge, attitudes, beliefs and intentions related to smoking and cessation as well as behavioral outcomes including quit attempts and cigarette consumption.

Information will be collected through on-line questionnaires involving adult smokers and non-smokers in the U.S., ages 18-54. Respondents who are smokers will be recruited from two sources: a probability sample drawn from the Knowledge Networks KnowledgePanel®, a panel that uses address-based postal mail sampling to generate a probability-based online panel of U.S. adults, and a supplemental sample from SSI, a leading provider of online sampling in the U.S. Respondents who are non-smokers will be recruited from Knowledge Networks.

To obtain the target number of complete Wave 3 responses, approximately 43,737 respondents will be contacted through an initial screening and consent process. The estimated burden per response is two minutes. The target number of complete wave 3 questionnaires for smokers is 14,250. The target number of complete wave for non-smokers is 3,286. For both respondent groups, the estimated burden per response is 25 minutes for each follow-up questionnaire.

OMB approval is requested for one year. There are no costs to respondents other than their time. The total estimated burden hours are 8,765.

Estimated Annualized Burden Hours
Type of respondent | Form name | Number of respondents | Number of responses per respondent | Average burden per response (in hours)
General Population | Screening and Consent Process | 43,737 | 1 | 2/60
Adults, ages 18-54 in the U.S. | Smoker Phase 2 Follow-Up Questionnaire | 14,250 | 1 | 25/60
| Non-Smoker Phase 2 Follow-Up Questionnaire | 3,286 | 1 | 25/60

Dated: February 5, 2013.
Ron A. Otten,
Director, Office of Scientific Integrity (OSI), Office of the Associate Director for Science (OADS), Office of the Director, Centers for Disease Control and Prevention.

[FR Doc. 2013-02985 Filed 2-8-13; 8:45 am]

BILLING CODE 4163-18-P